DEPARTMENT OF JUSTICE

Notice of Lodging of Consent Decree Under the Comprehensive Environmental Response, Compensation, and Liability Act

Notice is hereby given that on March 16, 2007, the United States electronically lodged eight separate consent decrees in United States v. IMC Magnetics, Inc. et al., Civil Action No. CV07-568-PHX-SRB, with the United States District Court for the District of Arizona. The consent decrees settle the United States' claims under Section 107 of the Comprehensive Environmental Response, Compensation, and Liability Act, as amended, (“CERCLA”), 42 U.S.C. 9607, against: (1) IMC Magnetics Corporation (“IMC”); (2) Prestige Cleaners, Inc. (“Prestige”); (3) Cintas Corporation, as successor to Unitog Rental Services, Inc. (“Cintas”); (4) Janstar Development, Inc. (“Janstar”); (5) Circuit Express Inc. (“Circuit Express”); (6) Service & Sales, Inc. (“Service & Sales”); (7) K & S Interconnect, Inc., as successor to Cerprobe Corporation (“K&S”); and (8) Sherman Leibovitz, d/b/a Eldon Drapery Cleaners (“Mr. Leibovitz”), in connection with the South Indian Bend Wash Superfund Site in Tempe, Maricopa County, Arizona (the “Site”). The settling defendants, pursuant to the respective consent decrees, will reimburse the United States for CERCLA response costs as follows: IMC, $1,162,500; Prestige, $251,875; Cintas, $612,250; Janstar, $3,875; Circuit Express, $39,000; Service & Sales, $39,000; K & S, $39,000; and Mr. Leibovitz, $77,500. The funds will be placed into a Superfund special account for the Site. The consent decrees provide each settling defendant with a covenant not to sue from the United States for the Site.

The Department of Justice will receive for a period of thirty (30) days from the date of this publication comments relating to the consent decrees. Comments should be addressed to the Assistant Attorney General, Environment and Natural Resources Division, and either e-mailed to pubcomment-ees.enrd@usdoj.gov or mailed to P.O. Box 7611, U.S. Department of Justice, Washington, DC 20044-7611, and should refer to U.S. v. IMC Magnetics, et al., No. CV07-568-PHX-SRB and D.J. Ref. #90-11-2-413/3.

The consent decrees may be examined at the Office of the United States Attorney, 2 Renaissance Square, 40 North Central Street, Suite 1200, Phoenix, Arizona, (602) 514-7500, and at U.S. EPA Region IX, 75 Hawthorne Street, San Francisco, CA 94105. During the public comment period, the consent decrees may also be examined on the following Department of Justice Web site: http://www.usdoj.gov/enrd/Consent_Decrees.html. A copy of the consent decrees may also be obtained by mail from the Consent Decree Library, P.O. Box 7611, U.S. Department of Justice, Washington, DC 20044-7611 by e-mailing a request to Tonia Fleetwood (tonia.fleetwood@usdoj.gov) or by faxing a request to (202) 514-0097, phone confirmation number (202) 514-1547. In requesting a copy from the Consent Decree Library, please identify the consent decree or consent decrees requested and enclose a check in the amount of $6 (25 cents per page reproduction cost) for each such consent decree, and make the check payable to the U.S. Treasury or, if by e-mail or fax, forward a check in that amount to the Consent Decree Library at the stated address.

Henry S. Friedman,
Assistant Chief, Environmental, Enforcement Section, Environment and Natural Resources Division.

[FR Doc. 07-1654 Filed 4-4-07; 8:45 am]

BILLING CODE 4410-15-M